DEPARTMENT OF ENERGY

Federal Energy Regulatory Commission

[Docket No. IC09-732-000]

Commission Information Collection Activities (FERC-732); Proposed Collection; Comment Request; Extension

August 26, 2009.

AGENCY: Federal Energy Regulatory Commission, DOE.

ACTION: Notice of proposed information collection and request for comments.

SUMMARY: In compliance with the requirements of section 3506(c)(2)(a) of the Paperwork Reduction Act of 1995 (Pub. L. No. 104-13), the Federal Energy Regulatory Commission (FERC or Commission) is soliciting public comment on the specific aspects of the information collection described below.

DATES: Comments in consideration of the collection of information are due November 3, 2009.

ADDRESSES: Comments may be filed either electronically or in paper format, and should refer to Docket No. IC09-732-000. Documents must be prepared in an acceptable filing format and in compliance with Commission submission guidelines at http://www.ferc.gov/help/submission-guide.asp.

Comments may be eFiled. The eFiling option under the Documents & Filings tab on the Commission's home Web page (http://www.ferc.gov) directs users to the eFiling Web site. First-time users follow the eRegister instructions on the eFiling Web page to establish a user name and password before eFiling. Filers will receive an e-mailed confirmation of their eFiled comments. Commenters filing electronically should not make a paper filing. If unable to make a filing electronically, deliver an original and 14 paper copies of the filing to: Federal Energy Regulatory Commission, Secretary of the Commission, 888 First Street, NE., Washington, DC 20426.

Parties interested in receiving automatic notification of activity in this docket may do so through eSubscription. The eSubscription option under the Documents & Filings tab on the Commission's home Web page directs users to the eSubscription Web page. Users submit the docket numbers of the filings they wish to track and will subsequently receive an e-mail notification each time a filing is made under the submitted docket numbers. First-time users will need to establish a user name and password before eSubscribing.

Filed comments and FERC issuances may be viewed, printed and downloaded remotely from the Commission's Web site. The red eLibrary link found at the top of most of the Commission's Web pages directs users to FERC's eLibrary. From the eLibrary Web page, choose General Search, and in the Docket Number space provided, enter IC09-732; then click the Submit button at the bottom of the page.

For help with any of the Commission's electronic submission or retrieval systems, contact FERC Online Support (e-mail at ferconlinesupport@ferc.gov, or telephone toll-free (866) 208-3676 (TTY (202) 502-8659)).

FOR FURTHER INFORMATION CONTACT: Ellen Brown may be reached by telephone at (202) 502-8663, by fax at (202) 273-0873, or by e-mail at ellen.brown@ferc.gov.

SUPPLEMENTARY INFORMATION: To implement section 1233 of the Energy Policy Act of 2005 (EPAct 2005) (which added new section 217 to the Federal Power Act (FPA)), the Commission requires each transmission organization that is a public utility with one or more organized electricity markets to make available long-term firm transmission rights that satisfy each of the Commission's guidelines. The reporting requirements of FERC-732,¹ (“Electric Rate Schedules and Tariffs: Long-Term Firm Transmission Rights in Organized Electricity Markets,” OMB Control Number 1902-0245) pertain to these long-term transmission rights and are described in 18 CFR part 42.

¹ This information collection has been labeled “FERC-913”, “FERC-913/516”, and “FERC-913(Temporary)” with a goal of incorporating it later into FERC-516 (OMB Control No. 1902-0096). In addition, in Order No. 681 (in Docket No. RM06-8, issued 7/20/06), the burden was listed as part of FERC-516. OMB approved the new reporting requirements on 1/24/07 and assigned OMB Control No. 1902-0236 (rather than including it in FERC-516).

On 9/28/07 (in ICR Nos. 200610-1902-002 and 200709-1902-008), OMB approved transfer from OMB Control No. 1902-0236 to OMB Control No. 1902-0245. However, OMB Control No. 1902-0245 does not indicate a FERC collection number. To eliminate some of the confusion, we have assigned these requirements a new FERC collection number, FERC-732. The new collection number does not affect the regulatory requirements or burden.

In the future, FERC plans to incorporate the FERC-732 reporting requirements and related burden into the FERC-516. However, FERC-516 is currently the subject of OMB review, so the Commission will track these requirements (and the related burden hours) separately under FERC-732. FERC-516 is not a subject of this Notice.

The FERC-732 regulations require that transmission organizations that are public utilities with one or more organized electricity markets either: (a) File tariff sheets making long-term firm transmission rights available that are consistent with each of the guidelines established by FERC, or (b) file an explanation describing how their existing tariffs already provide long-term firm transmission rights that are consistent with the guidelines. In addition, each transmission organization is required to make its transmission planning and expansion procedures and plans publicly available.

FERC-732 enables the Commission to exercise its wholesale electric rate and electric power transmission oversight and enforcement responsibilities in accordance with the FPA, the Department of Energy Organization Act (DOE Act), and EPAct 2005. Action: The Commission is requesting a three-year extension of the current expiration date, with no change to the reporting requirements.

Burden Statement: The public reporting burden for this collection is estimated to be as follows:

FERC-732 ¹ | Number of respondents annually | Number of responses per respondent | Average burden hours per response | Total annual burden hours
| (1) | (2) | (3) | (1)×(2)×(3)
New Transmission Organizations with Organized Electricity Markets—filing requirement | 1 | 1 | 1,180 | 1,180
Existing & New Transmission Organizations with Organized Markets—making plans & procedures available to public | 6 | 1 | 2 | 12
Total Annual Estimate |  |  |  | 1,192

Any transmission organization approved by the Commission for operation after January 29, 2007, that has one or more organized electricity markets (administered either by it or by another entity), will be required to comply with the FERC-732 reporting requirements. Although it is difficult to predict whether the Commission will receive an application for, and approve, a transmission organization in the foreseeable future, the regulations, reporting requirements, and burden of FERC-732 merit continued renewal of the OMB (Office of Management and Budget) clearance. As a result, we are including a `placeholder' estimate of 1 respondent and 1 response annually for the filing requirement. In addition, each existing transmission organization subject to Part 42 must make its transmission planning and expansion procedures and plans publicly available (under 18 CFR 42.1(c)(4)) for an estimated burden of 2 hours per respondent.

The estimated total cost to respondents is $71,491.35 [1,192 hours divided by 2,080 hours ² per year, times $124,750 ³ equals $71,491.35]. The estimated cost per respondent is $70,771.63 for new transmission organizations, and $119.95 for existing transmission organizations.

² Number of hours an employee works each year.

³ The Bureau of Labor Statistics, Department of Labor Occupational Handbook (`May 2008 National Occupational Employment and Wage Estimates [United States],' at http://www.bls.gov/oes/2008/may/oes_nat.htm#b23-0000) shows the mean annual salary for a lawyer is $124,750, or $59.98 per hour.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The respondent's cost estimate is based on salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's burden estimate of the proposed collection of information, including the validity of the methodology and assumptions used; (3) ways to enhance the quality, utility and clarity of the information to be collected; and (4) ways to minimize respondent information collection burden.

Kimberly D. Bose,
Secretary.

[FR Doc. E9-21114 Filed 9-1-09; 8:45 am]

BILLING CODE 6717-01-P